ADMINISTRATIVE CONFERENCE OF THE UNITED STATES

Committee on Rulemaking

ACTION: Notice of public meeting.

SUMMARY: Notice is hereby given of a public meeting of the Committee on Rulemaking of the Assembly of the Administrative Conference of the United States. The meeting will provide an opportunity for the committee to consider outlines and research plans for two upcoming projects regarding midnight rules and regulatory analysis, respectively. Complete details regarding the committee meeting, the contours of the new projects, how to attend (including information about remote access and obtaining special accommodations for persons with disabilities), and how to submit comments to the committee can be found in the “About” section of the Conference's Web site, at http://www.acus.gov. Click on “About” -> “The Committees” -> “Committee on Rulemaking.”

Comments may be submitted by email to Comments@acus.gov, with “Committee on Rulemaking” in the subject line, or by postal mail to “Committee on Rulemaking Comments” at the address given below. To be guaranteed consideration, comments must be received five calendar days before the meeting.

ADDRESSES: The meeting will be held at 1120 20th Street, NW., Suite 706 South, Washington, DC 20036.

FOR FURTHER INFORMATION CONTACT: Emily Schleicher Bremer, Designated Federal Officer, Administrative Conference of the United States, 1120 20th Street, NW., Suite 706 South, Washington, DC 20036; Telephone (202) 480-2080.

SUPPLEMENTARY INFORMATION: The Committee on Rulemaking will meet to hear two consultants present their outlines and research plans for two new projects. These projects are the Midnight Rules Project, for which Professor Jack Beermann is the consultant, and the Regulatory Analysis Project, for which Curtis Copeland is the consultant. The Midnight Rules project will examine issues raised by rules promulgated near the end of a presidential administration. The Regulatory Analysis project will examine the numerous analyses (e.g., cost-benefit analysis, regulatory flexibility analysis) that agencies are required to prepare when promulgating rules. The Committee will provide feedback to the consultants based on their outlines and research plans.

DATES: Monday, November 14 from 10 a.m. to 12 p.m.

Designated Federal Officer: Emily Schleicher Bremer.

Dated: October 24, 2011.
Jonathan R. Siegel,
Director of Research & Policy.

[FR Doc. 2011-27894 Filed 10-27-11; 8:45 am]

BILLING CODE 6110-01-P